OFFICE OF THE UNITED STATES TRADE REPRESENTATIVE

Request for Public Comments on the Second Draft Consolidated Texts of the Free Trade Area of the Americas (FTAA) Agreement

AGENCY: Office of the United States Trade Representative.

ACTION: Notice and request for comments.

SUMMARY: The second draft consolidated texts of the Free Trade Area of the Americas Agreement (FTAA) have been publicly released and posted on the USTR website (http://www.ustr.gov) and on the official FTAA website (http://www.ftaa-alca.org). The texts are available in the four official languages of the FTAA: English, Spanish, French, and Portuguese. The interagency Trade Policy Staff Committee (TPSC) is requesting written comments from the public on the second draft consolidated texts of the FTAA Agreement.

DATES: Public comments should be received by Friday, January 31, 2003.

ADDRESSES: Submissions by electronic mail: FR0060@ustr.gov.

Submissions by facsimile: Gloria Blue, Executive Secretary, Trade Policy Staff Committee, at (202) 395-6143. The public is strongly encouraged to submit documents electronically rather than by facsimile.

FOR FURTHER INFORMATION CONTACT: For procedural questions concerning public comments, contact Gloria Blue, Executive Secretary, Trade Policy Staff Committee, Office of the United States Trade Representative at (202) 395-3475. All other questions concerning the FTAA negotiations should be addressed to the agency's Office of the Americas at (202) 395-5190. The FTAA second draft consolidated texts are available on the USTR Website (http://www.ustr.gov) and the official FTAA website (http://www.ftaa-alca.org). This official FTAA website also contains general information regarding the FTAA process, including official documents.

SUPPLEMENTARY INFORMATION:

1. Background

Trade Ministers from the 34 democratically-elected governments in the Western Hemisphere made public the second draft consolidated texts of the FTAA agreement on November 1, 2002, immediately following the close of their Ministerial meeting in Quito, Ecuador. The first draft consolidated texts of the FTAA agreement previously had been made public on July 3, 2001. The TPSC previously invited public comments on the first version of the draft consolidated FTAA texts [66 FR 36614 (July 12, 2001)].

The second draft consolidated texts of the FTAA are currently available on the official FTAA website in the four official FTAA languages (English, Spanish, French and Portuguese). The texts contain many brackets, indicating that the draft text enclosed by such brackets has not been agreed to by all FTAA countries.

The texts include draft chapters produced by the nine FTAA Negotiating Groups (market access; agriculture; services; intellectual property rights; investment; government procurement; competition policy; dispute settlement; and subsidies, antidumping and countervailing duties). The draft texts also include a first preliminary draft text by the FTAA Technical Committee on Institutional Issues (TCI). This section contains preliminary views on the general provisions of the Agreement and on institutional provisions.

2. Public Comments

The TPSC previously has requested public comments on a number of matters related to the FTAA including: general U.S. positions and objectives in the FTAA, see 63 FR 36470 (July 6, 1998), and 64 FR 72715 (December 28, 1999); specific rules of origin in the FTAA, see 66 FR 22627 (May 4, 2001); scope of the environmental review for the FTAA pursuant to Executive Order 13141, see 65 FR 75763 (December 4, 2000); identification of private sector experts on electronic commerce for the Joint Committee of Experts on Electronic Commerce, see 63 FR 42090 (August 6, 1998), 64 FR 26811 (May 17, 1999), 65 FR 10847 (February 29, 2000), and 65 FR 47818 (August 3, 2000); and market access and other issues regarding the FTAA, see 64 FR 18469 (April 14, 1999). The TPSC also asked for comments on the operation of the FTAA Committee of Government Representatives on the Participation of Civil Society, see 63 FR 40579 (July 29, 1998); and the USTR provided notice in 65 FR 38872 (June 22, 2000), 66 FR 36614 (July 12, 2001), and in 66 FR 56893 (November 13, 2001) that the FTAA Committee of Government Representatives on the Participation of Civil Society had issued requests for public comments on trade matters related to the FTAA process. More recently, the TPSC issued a notice of a public hearing in 67 FR 49732 (July 31, 2002) concerning the negotiation of the FTAA Agreement.

3. Requirements for Submissions

Written comments are invited on any aspect of the second draft consolidated texts of the FTAA agreement. Persons submitting written comments should submit those documents to one of the addresses indicated above no later than January 31, 2003, to be assured of consideration by U.S. Government negotiators during this round of negotiations. If possible, comments should be submitted before this date. However, submissions will be accepted through February 28, 2003 and those submissions will be taken into consideration to the extent practicable. Comments should state clearly the position taken, should be as specific as possible, and should describe with particularity the evidence supporting that position.

In a separate notice being published today, USTR is providing notice of the FTAA Committee of Government Representatives on the Participation of Civil Society's (Civil Society Committee) Open and Ongoing Invitation. Members of the public may choose to submit comments to the TPSC, as specified above, the FTAA Civil Society Committee, or to both.

In order to facilitate prompt processing of submissions, USTR strongly urges and prefers electronic (e-mail) submissions in response to this notice. Persons making submissions by e-mail should use the following subject line: “Second Draft FTAA Texts: Written Comments.” Documents should be submitted as either WordPerfect, MSWORD, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except for comments containing business confidential information exempt from public inspection in accordance with 15 CFR 2003.6. Comments containing business confidential information must be clearly marked “BUSINESS CONFIDENTIAL” at the top of each page, including any cover letter or cover page, and must be accompanied by a non-confidential summary of the confidential information. All public documents and non-confidential summaries shall be available for public inspection in the USTR Reading Room. The USTR Reading Room is open to the public, by appointment only, from 10 a.m. to 12 noon and from 1 p.m. to 4 p.m., Monday through Friday. An appointment to review the file must be scheduled at least 48 hours in advance and may be made by calling (202) 395-6186. General information concerning the Office of the United States Trade Representative may be obtained by accessing its Internet Website (http://www.ustr.gov).

Carmen Suro-Bredie,
Chair, Trade Policy Staff Committee.

[FR Doc. 02-32746 Filed 12-26-02; 8:45 am]

BILLING CODE 3190-01-P